DEPARTMENT OF COMMERCE

National Oceanic and Atmospheric Administration

RIN 0648-XA897

Fisheries of the South Atlantic; Southeast Data, Assessment, and Review (SEDAR); Gulf of Mexico and South Atlantic Spanish Mackerel (Scomberomorus maculatus) and Cobia (Rachycentron canadum)

AGENCY: National Marine Fisheries Service (NMFS), National Oceanic and Atmospheric Administration (NOAA), Commerce.

ACTION: Notice.

SUMMARY: Four Assessment Workshops via webinars are being added to SEDAR 28. The webinars will be held July 10, 2012, July 24, 2012, August 9, 2012, and August 30, 2012. All webinars will begin at 1 p.m. (Eastern) and are expected to last four hours. The SEDAR 28 Review Workshop was originally scheduled for August 6-10, 2012 and will now be held October 29-November 2, 2012. This is the twenty-eighth SEDAR. See SUPPLEMENTARY INFORMATION.

DATES: The SEDAR 28 Assessment Workshops via webinar will be held July 10, 2012, July 24, 2012, August 9, 2012, and August 30, 2012. The SEDAR 28 Review Workshop will take place October 29-November 2, 2012. See SUPPLEMENTARY INFORMATION.

ADDRESSES: The SEDAR 28 Review Workshop will be held at the DoubleTree Atlanta-Buckhead, 3342 Peachtree Rd., Atlanta, GA 30326, telephone: (404) 231-1234. The Assessment Workshop webinars will be held via online webinar. The webinars and Review workshop are open to members of the public. Those interested in participating in the webinars should contact Kari Fenske and Ryan Rindone at SEDAR (see FOR FURTHER INFORMATION CONTACT) to request an invitation providing webinar access information.

FOR FURTHER INFORMATION CONTACT: Kari Fenske, SEDAR Coordinator, 4055 Faber Place Drive, Suite 201, North Charleston, SC 29405; telephone: (843) 571-4366; email: kari.fenske@safmc.net; or Ryan Rindone, SEDAR Coordinator, 4055 Faber Place Drive, Suite 201, North Charleston, SC 29405; telephone: (704) 564-2046; email: ryan.rindone@gulfcouncil.org.

SUPPLEMENTARY INFORMATION: The original notice for the SEDAR 28 Review Workshop was published in the Federal Register on December 28, 2011 (76 FR 81479). This notice changes the date of that workshop and adds additional workshops for SEDAR 28.

The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR includes three workshops: (1) Data Workshop, (2) Stock Assessment Workshop and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Consensus Summary documenting Panel opinions regarding the strengths and weaknesses of the stock assessment and input data. Panelists for SEDAR Workshops are appointed by the Gulf of Mexico, South Atlantic, and Caribbean Fishery Management Councils and NOAA Fisheries Southeast Regional Office and Southeast Fisheries Science Center. SEDAR participants include data collectors and database managers; stock assessment scientists, biologists, and researchers; constituency representatives including fishermen, environmentalists, and NGO's; International experts; and staff of Councils, Commissions, and state and federal agencies.

SEDAR 28 Assessment Workshops via Webinar Schedule (all times Eastern):

July 10, 2012: 1 p.m.-5 p.m.; July 24, 2012: 1 p.m.-5 p.m.; August 9, 2012: 1 p.m.-5 p.m.; August 30, 2012: 1 p.m.-5 p.m.

The established time may be adjusted as necessary to accommodate the timely completion of discussion relevant to the data workshop process. Such adjustments may result in the meeting being extended from, or completed prior to the time established by this notice.

Revised SEDAR 28 Review Workshop Schedule:

October 29-November 2, 2012; SEDAR 28 Review Workshop

October 29, 2012: 1 p.m.-8 p.m.; October 30, 2012: 8 a.m.-8 p.m.; October 31, 2012: 8 a.m.-8 p.m.; November 1, 2012: 8 a.m.-8 p.m.; November 2, 2012: 8 a.m.-1 p.m.

The Review Workshop is an independent peer review of the assessment developed during the Data and Assessment Workshops. Workshop Panelists will review the assessment and document their comments and recommendations in a Consensus Summary.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 10 business days prior to each workshop.

Dated: June 8, 2012.
Tracey L. Thompson,
Acting Director, Office of Sustainable Fisheries, National Marine Fisheries Service.

[FR Doc. 2012-14408 Filed 6-12-12; 8:45 am]

BILLING CODE 3510-22-P